DEPARTMENT OF AGRICULTURE

Forest Service

Extension With Revision of Currently Approved Information Collection for Special Use Administration

AGENCY: Forest Service, USDA.

ACTION: Notice of intent; request for comments.

SUMMARY: In accordance with the Paperwork Reduction Act of 1995, the Forest Service is seeking comments from all interested individuals and organizations on the extension with revision of information collection 0596-0082 for the administration of special uses on National Forest System lands. The information helps the Forest Service ensure that the authorized use of Federal land is in the public interest and compatible with the mission of the agency. Respondents will include individuals, groups, organizations, businesses, corporations, and Federal, State, and local governments.

DATES: Comments must be received in writing on or before February 27, 2006 to be assured of consideration. Comments received after that date will be considered to the extent practicable.

ADDRESSES: Send comments by mail to USDA, Forest Service, Attention: Rita Staton, Lands Staff (2720), 1400 Independence Avenue, SW., Stop 1124, Washington, DC 20250-1124 or by facsimile to Rita Staton, 202-205-1604, or by e-mail to reply reply_lands_staff@fs.fed.us. Comments also may be submitted by following the instructions at the federal eRulemaking portal at http://www.regulation.gov. If comments are sent by e-mail or facsimile, the public is requested not to send duplicate comments via mail. Please confine comments to issues pertinent to the proposed extension with revision of the currently approved information collection, explain the reasons for any recommended changes, and where possible, reference the specific wording being addressed.

All comments on the request for an extension with revision of the currently approved information collection for special use administration, including names and addresses when provided, will be placed in the record and will be available for public inspection and copying. The public may inspect comments received on the request for extension in the Office of the Director, Lands Staff, 4th Floor South, Sidney R. Yates Federal Building, 14th and Independence Avenue, SW., Washington, DC., 20024 on business days between the hours of 8:30 a.m. and 4 p.m. Those wishing to inspect comments are encouraged to call ahead at (202) 205-1248 to facilitate entry into the building.

FOR FURTHER INFORMATION CONTACT: Rita Staton, Lands Staff, at (202) 205-1390. Individuals who use telecommunication devices for the deaf (TDD) may call the Federal Relay Service (FRS) at 1-800-877-8339, 24 hours a day, every day of the year.

SUPPLEMENTARY INFORMATION: Title: Special Use Administration.

OMB Number: 0596-0082.

Expiration Date of Approval: 04/30/2006.

Type of Request: Extension with Revision.

Type of Respondents: Individuals, groups, organizations, businesses, corporations, and Federal, State, and local governments.

Background

Several statutes authorize the Forest Service to issue and administer authorizations for use and occupancy of National Forest System (NFS) lands and require the collection of information from the public for those purposes, including the Organic Administration Act of 1897 (16 U.S.C. 551); Title V of the Federal Land Policy and Management Act of 1976 (FLPMA, 43 U.S.C. 1761-1771); the Act of March 4, 1915 (16 U.S.C. 497); the National Forest Ski Area Permit Act (16 U.S.C. 497b); section 28 of the Mineral Leasing Act (30 U.S.C. 185); the National Forest Roads and Trails Act (FRTA, 16 U.S.C. 532-538); section 7 of the Granger-Thye Act (16 U.S.C. 480d); the Act of May 26, 2000 (16 U.S.C. 460l-6d); and the Federal Lands Recreation Enhancement Act (16 U.S.C. 6801-6814).

Forest Service regulations implementing these authorities, found at 36 CFR part 251, subpart B, contain information collection requirements, including submission of applications, execution of forms, and imposition of terms and conditions that entail information collection requirements, such as the requirement to submit annual financial information; to prepare and update an operating plan; to prepare and update a maintenance plan; and to submit compliance reports and information updates. The information collection requirements described in this request for an extension with revision of a currently approved information collection are necessary for the Forest Service to issue and administer special use authorizations to use and occupy NFS lands under these authorities.

The information collected is evaluated by the Forest Service to ensure that authorized uses of NFS lands are in the public interest and are compatible with the agency mission. The information helps the agency identify environmental and social impacts of special uses for purposes of compliance with the National Environmental Policy Act and program administration. In addition, the agency uses the information to ascertain whether the land use fee being charged for special use authorizations is based on market value. The information is collected through application forms and terms and conditions in special use authorizations and operating plans.

There are six categories of information collected: (1) Information required from proponents and applicants to evaluate proposals and applications to use or occupy NFS lands; (2) information required from applicants to complete special use authorizations; (3) annual financial information required from holders to determine land use fees; (4) information required from holders to prepare and update operating plans; (5) information required from holders to prepare and update maintenance plans; and (6) information required from holders to complete compliance reports and information updates. The six categories cover all information collection requirements involved in administration of the special uses program, including application and reporting forms; authorization forms; supplemental special use authorization clauses in Forest Service Handbook 2709.11, chapter 50, and information collection requirements not associated with an approved standard form.

These six categories demonstrate the complexity of the special uses program and the importance of standard forms to administration of the program. There are approximately 77,000 special use authorizations in effect, authorizing a variety of activities that range from individual private uses to large-scale commercial facilities and public services. Examples of authorized special uses include public and private road rights-of-way, apiaries, domestic water supply conveyance systems, telephone and electric service rights-of-way, oil and gas pipeline rights-of-way, communications facilities, hydroelectric power-generating facilities, ski areas, resorts, marinas, municipal sewage treatment plants, and public parks and playgrounds. Each year the Forest Service issues approximately 9,000 special use authorizations.

Because of the significance of the forms to program administration, the Forest Service needs the ability to update and modify them through expedited procedures when the agency is not imposing new information collection requirements, e.g., when the agency is proposing purely minor, technical changes; is tailoring an existing standard form to a particular use; or is proposing revisions needed for consistency, updating, or legal sufficiency. Consequently, the agency is proposing to broaden the scope of the currently approved information collection for the special uses program to include these types of changes. These changes would not affect the burden estimate for the special use program's information collection and they would be submitted to the Office of Management and Budget for approval, without publication for public notice and comment. The Forest Service would publish for public notice and comment any new information collection requirements, such as forms created to implement new statutory or regulatory requirements or additional information collection requirements imposed under existing standard forms.

Category 1: The Application Process

1. SF-299: Application for Transportation and Utility Systems and Facilities on Federal Lands. The information provided on this form is used by the authorized officer to evaluate the applicant's technical and financial capability, nature of the proposed operations, and anticipated environmental impacts and proposed mitigation of those impacts. This form is used for most requests for nonrecreational uses of NFS lands.

2. FS-2700-3a: Holder-Initiated Revocation of Existing Authorization and Request for a Special Use Permit. The information provided on this form is used by the authorized officer to facilitate issuance of a new authorization when there is a change in ownership of authorized improvements or a change in control of the holder of a special use authorization.

3. FS-2700-3b: Special Use Application and Permit for Noncommercial Group Use. The information provided on this form is used by the authorized officer to evaluate requests to use NFS lands for noncommercial gatherings involving 75 or more people, such as a wedding or an activity involving the exercise of First Amendment rights.

4. FS-2700-3c: Special Use Application and Permit for Recreation Events. The information provided on this form is used by the authorized officer to evaluate requests to use NFS lands for events involving an entry or participation fee, such as an endurance ride.

5. FS-2700-3e: Special Use Application and Permit for Government-Owned Buildings. The information provided on this form is used by the authorized officer to evaluate requests to use government-owned facilities on NFS lands.

6. FS-2700-10: Technical Data for Communications Uses. The information provided on this form is used by the authorized officer to evaluate the compatibility of communications equipment at a communications site to minimize frequency interference and other compatibility problems.

7. FS-2700-NEW: Application for Permit for Archaeological Investigations. The information provided on this form is used by the authorized officer to evaluate the financial capability and qualifications of an applicant to undertake archaeological investigations on NFS lands.

8. FS-2700-11: Agreement Concerning a Small Business Administration Loan for a Holder of a Special Use Permit. The information provided on this form is used by the authorized officer to enter into an agreement with a holder, a lender, and the United States Small Business Administration (SBA) regarding a loan guaranteed by the SBA.

9. FS-2700-12: Agreement Concerning a Loan for a Holder of a Special Use Permit. The information provided on this form is used by the authorized officer to enter into an agreement with a holder and a lender regarding a loan that is not guaranteed by the SBA.

10. FS-2700-28: Additional Insured Endorsement for a Special Use Authorization. The information provided on this form is used to name the United States as an additional insured in an insurance policy issued to the holder of a special use authorization.

11. FS-6500-24: Financial Statement. The information provided on this form is used by the authorized officer, or financial analyst to evaluate the financial capability of an applicant to undertake the requested use and to comply with the terms and conditions of an authorization. This form is used primarily for requests to operate ski areas, resorts, and government-owned campgrounds on NFS lands.

12. FS-6500-25: Request for Verification. The information provided on this form is used by the authorized officer, or financial analyst to obtain a release of information from a financial institution in order to verify the financial capability of an applicant to undertake the requested use and to comply with the terms and conditions of an authorization. This form is used primarily for requests to operate ski areas, resorts, and government-owned campgrounds on NFS lands.

Category 2: Special Use Authorizations

1. FS-2700-4: Special Use Permit. The information provided on this form is used by the authorized officer to authorize a variety of uses on NFS lands that are not covered by their own standard form.

2. FS-2700-4a: Special Use Permit Granger-Thye Supplement. The information provided on this form is used to modify the standard form FS-2700-4 when used to authorize government-owned improvements.

3. FS-2700-4b: Forest Road Special Use Permit. The information provided on this form is used by the authorized officer to authorize under FLPMA the construction and use of an NFS road, typically to access private property within a national forest for commercial purposes, such as timber hauling or noncommercial purposes such as residential use.

4. FS-2700-4c: Private Road Special Use Permit. The information provided on this form is used by the authorized officer to authorize under FLPMA the construction and use of a road that is not part of the forest transportation system to access non-Federal land, a mining claim, a mineral leasing area, or other uses of NFS lands.

5. FS-2700-4d: Temporary Cost Share Agreement Road Special Use Permit. The information provided on this form is used by the authorized officer to authorize under FLPMA the construction, maintenance, and use of a temporary road on NFS lands covered by a cost share agreement to access private property within a national forest for commercial purposes, such as timber harvesting.

6. FS-2700-4h: Special Use Permit for Campground and Related Granger-Thye Concessions. The information provided on this form is used by the authorized officer to authorize the operation and maintenance of a government-owned recreation site on NFS lands.

7. FS-2700-4h, Appendix B: Annual Granger-Thye Fee Offset Agreement. The information provided on this form is used by the authorized officer and the holder to specify the government maintenance, reconditioning, renovation, and improvement to be used to offset the land use fee for a Campground and Related Granger-Thye Concessions Special Use Permit.

8. FS-2700-4h, Appendix G: Granger-Thye Fee Offset Claim Certification. The information provided on this form is used by the holder to provide a record of the holder's direct and indirect costs attributable to a project enumerated in a Granger-Thye fee offset agreement.

9. FS-2700-4h, Appendix F: Special Use Permit for Campground and Related Granger-Thye Concessions. The information provided on this form describes the Forest Service's drinking water program and the requirements that apply to holders who are authorized to operate a Federally owned drinking water system.

10. FS-2700-4i: Special Use Permit for Outfitting and Guiding. The information provided on this form is used by the authorized officer to authorize the use and occupancy of NFS lands to provide outfitting and guiding services.

11. FS-2700-5: Term Special Use Permit. The information provided on this form is used by the authorized officer to authorize long-term use of NFS lands involving privately owned facilities.

12. FS-2700-5a: Term Special Use Permit for Recreation Residences. The information provided on this form is used by the authorized officer to authorize a privately owned recreation residence on NFS lands.

13. FS-2700-5b: Ski Area Term Special Use Permit. The information provided on this form is used by the authorized officer to authorize ski areas on NFS lands.

14. FS-2700-5c: Resort/Marina Term Special Use Permit. The information provided on this form is used by the authorized officer to authorize resort/marinas on NFS lands.

15. FS-2700-9a: Agricultural Irrigation and Livestock Watering System Easement. The information provided on this form is used by the authorized officer to grant an easement for an agricultural irrigation or a livestock watering system on NFS lands.

16. FS-2700-9b: Cost Share Easement. The information provided on this form is used by the authorized officer to authorize under FRTA the acquisition, construction, or reconstruction and the maintenance and use of an NFS road that is subject to a cost share agreement. The parties to the cost share agreement grant each other easements within the geographic area covered by the agreement. A cost share easement, which is for an NFS road, is subject to the cost sharing provisions of the agreement.

17. FS-2700-9c: Non-Cost Share Easement. The information provided on this form is used by the authorized officer to authorize under FRTA the construction, reconstruction, maintenance, and use of private roads under a cost share agreement. The parties to the cost share agreement grant each other easements within the geographic area covered by the agreement. A non-cost share easement, which is for a private rather than an NFS road, is not subject to the cost sharing provisions of the agreement.

18. FS-2700-9d: Public Road Easement. The information provided on this form is used by the authorized officer to grant easements under FRTA to public road authorities, such as States or counties, to construct and maintain public roads that are not part of the Federal Aid Highway System.

19. FS-2700-9e: Forest Road Easement Issued Under the National Forest Roads and Trails Act The information provided on this form is used by the authorized officer to grant an easement under FRTA to a party to a cost share agreement, or to another non-Federal landowner who is cooperating in the acquisition, construction, or maintenance of an NFS road. The easement is for acquisition, construction, or reconstruction and maintenance and use of an NFS road that is outside the boundaries of a cost share agreement. At the time the easement is granted, the grantor and the grantee share the costs of acquisition, construction, and reconstruction. After the easement is granted, the grantor and the grantee share only the cost of maintenance.

20. FS-2700-9f: Private Road Easement Issued Under the National Forest Roads and Trails Act. The information provided on this form is used by the authorized officer to grant an easement under FRTA to a party to a cost share agreement, or to another non-Federal landowner who is cooperating in the acquisition, construction, or maintenance of an NFS road. The easement is for construction or reconstruction and maintenance and use of a private road that is outside the boundaries of a cost share agreement. Since the easement is for a private rather than an NFS road, the costs of constructing, reconstructing, and maintaining the road are borne by the grantee.

21. FS-2700-9g: Forest Road Easement Issued Under the Federal Land Policy and Management Act. The information provided on this form is used by the authorized officer to grant an easement under FLPMA for construction, reconstruction, maintenance, and use of an NFS road, when the grantee is not a party to a cost share agreement for the acquisition, construction, and maintenance of an NFS road, or when the grantee does not meet the requirements for issuance of a forest road easement under FRTA.

22. FS-2700-9h: Private Road Easement Issued Under the Federal Land Policy and Management Act. The information provided on this form is used by the authorized officer to grant an easement under FLPMA for construction, reconstruction, maintenance, and use of a private road, when the grantee is not a party to a cost share agreement for the acquisition, construction, and maintenance of NFS roads, or when the grantee does not meet the requirements for issuance of a private road easement under FRTA.

23. FS-2700-10b: Communications Site Lease. The information provided on this form is used by the authorized officer to authorize a communications use within a designated communications site on NFS lands.

24. FS-2700-NEW: Electric Transmission Line Easement. The information provided on this form is used by the authorized officer to grant a long-term easement under FLPMA for an electric transmission line.

25. FS-2700-NEW: Permit for Archaeological Investigations. The information provided on this form is used by the authorized officer to grant a permit to a qualified applicant to conduct archeological investigations on NFS lands.

26. FS-2700-23: Amendment for Special Use Authorization. The information provided on this form is used by the authorized officer to amend an existing special use authorization.

27. FS-2700-25: Temporary Special Use Permit. The information provided on this form is used by the authorized officer to authorize uses of one year or less on NFS lands.

28. FS-2700-26: Major Category Cost Recovery Agreement. The information provided on this form is used to effectuate cost recovery for special use applications or authorizations involving over 50 hours to process or monitor.

29. FS-2700-26b: Cost Recovery Master Agreement. The information provided on this form is used to effectuate cost recovery for special use applications or authorizations involving multiple phases of development or groups of applications or similar applications for a specified geographic area.

30. FS-2700-27: Notice to Alaska Native Corporations Regarding Prospectus for Visitor Services. The information provided on this form is used by the authorized officer to provide notice to Alaska Native Corporations of the issuance of a prospectus to conduct visitor services in Conservation System Units in Alaska so that they may request designation as a most directly affected Native Corporation for purposes of competing for the opportunity.

Category 3: Annual Financial Information

1. FS-2700-6b: Recreation Residence Self-Inspection Report. The information provided on this form is used by the authorized officer to review and record any modifications made to a recreation residence.

2. FS-2700-7: Reconciliation of Sales for Fee Calculation. The information provided on this form is used by the authorized officer to determine land use fees that are based on sales revenue.

3. FS-2700-8: Reconciliation of Gross Fixed Assets to Booked Amounts. The information provided on this form is used by the authorized officer to determine land use fees that are based on the gross fixed assets of the holder.

4. FS-2700-10a: Telecommunications Facility Inventory. The information provided on this form is used by the authorized officer to determine the rent for a communications facility based on the number of tenants in the facility.

5. FS-2700-19: Fee Calculation for Concession Permits. The information provided on this form is used by the authorized officer to determine the land use fee for concession permits under the Graduated Rate Fee System.

6. FS-2700-19a: Fee Calculation for Ski Area Permits. The information provided on this form is used by the authorized officer to determine the land use fee for ski area permits.

7. Business Practices (no standard form). Information regarding various business practices, such as basic accounting or financial records, is provided by the holder when requested by the authorized officer or as a term and condition of an authorization. This type of information is usually maintained in a form that is customary for the type of business involved.

Category 4: Preparing and Updating Operating Plans (No Standard Form).

Special use authorizations may contain a clause requiring the holder to prepare and update an operating plan governing day-to-day operations of the authorized use. This information is useful to the holder and the authorized officer because it specifies procedures and policies for conducting the authorized use. Typically, operating plans contain daily operating guidelines, fire abatement and control procedures, monitoring guidelines, maintenance standards, safety and emergency plans, and inspection standards. Operating plans are usually necessary for complex operations, commercial uses, and uses conducted in environmentally sensitive areas.

Category 5: Preparing and Updating Maintenance Plans (No Standard Form)

A permit or easement issued under FLPMA or FRTA may require the holder or grantee to submit and update a road maintenance plan or information necessary for the preparation of a road maintenance plan. A road maintenance plan governs a holder's or grantee's responsibility to perform or pay for maintenance of an NFS road.

Category 6: Compliance Reports and Information Updates (No Standard Form)

Special use authorizations may contain a clause requiring the holder to provide the authorized officer with compliance reports, information reports, and other information required by Federal law or to manage NFS lands to ensure adequate protection of national forest resources and public health and safety. Examples of compliance and information updates include dam maintenance inspection reports and logs required by the Reclamation Safety of Dams Act of 1978, the Federal Dam Safety Inspection Act of 1979, and the Dam Safety Act of 1983; documentation that authorized facilities passed safety inspections; documentation showing that the United States is named as an additional insured in an insurance policy issued to a holder; notifications involving a change in ownership of authorized improvements or a change in control of the holder; and documentation of compliance with Title VI of the Civil Rights Act of 1964.

Form number | Form name | Estimate of burden (hours) | Estimated number of respondents | Estimated number of responses per respondent | Estimated total annual burden on respondents
CATEGORY 1: APPLICATION PROCESS
SF-299 | Application for Transportation and Utility Systems and Facilities on Federal Lands | 8 | 5,025 | 1 | 40,200
FS-2700-3a | Holder-Initiated Revocation of Existing Authorization and Request for a Special Use Permit | .5 | 1,175 | 1 | 587.5
FS-2700-3b | Special Use Application and Permit for Noncommercial Group Use | .25 | 375 | 1 | 93.75
FS-2700-3c | Special Use Application and Permit for Recreation Events | 1 | 1,150 | 1 | 1,150
FS-2700-3e | Special Use Application and Permit for Government-Owned Buildings | .25 | 250 | 1 | 62.5
FS-2700-10 | Technical Data for Communications Uses | .25 | 175 | 1 | 43.75
FS-2700-NEW | Application for Permit for Archaeological Investigations | 4 | 50 | 1 | 200
FS-2700-11 | Agreement Concerning Small Business Administration Loan for Holder of Special Use Permit | .25 | 75 | 1 | 18.75
FS-2700-12 | Agreement Concerning Loan for Holder of Special Use Permit | .25 | 75 | 1 | 18.75
FS-2700-28 | Additional Insured Endorsement for a Special Use Authorization | .25 | 2,675 | 1 | 668.75
FS-6500-24 | Financial Statement | 8 | 100 | 1 | 800
FS-6500-25 | Request for Verification | .5 | 100 | 1 | 50
CATEGORY 2: SPECIAL USE AUTHORIZATIONS
FS-2700-4 | Special Use Permit | 1 | 1,175 | 1 | 1,175
FS-2700-4a | Special Use Permit Granger-Thye Supplement | 1 | 50 | 1 | 50
FS-2700-4b | Forest Road Special Use Permit | 1 | 150 | 1 | 150
FS-2700-4c | Private Road Special Use Permit | 1 | 275 | 1 | 275
FS-2700-4d | Temporary Cost Share Agreement Road Special Use Permit | 1 | 5 | 1 | 5
FS-2700-4h | Special Use Permit for Campground and Related Granger-Thye Concessions | 1 | 20 | 1 | 20
FS-2700-4h, Appendix B | Appendix B: Annual Granger-Thye Fee Offset Agreement | 2 | 75 | 1 | 150
FS-2700-4h, Appendix G | Appendix G: Granger-Thye Fee Offset Claim Certification | 1 | 75 | 1 | 75
FS-2700-4h, Appendix F | Appendix F: Special Use Permit for Campground and Related Granger-Thye Concessions | .5 | 20 | 1 | 10
FS-2700-4i | Special Use Permit for Outfitting and Guiding | 1 | 1,000 | 1 | 1,000
FS-2700-5 | Term Special Use Permit | 1 | 50 | 1 | 50
FS-2700-5a | Term Special Use Permit for Recreation Residences | 1 | 1,250 | 1 | 1,250
FS-2700-5b | Ski Area Term Special Use Permit | 1 | 10 | 1 | 10
FS-2700-5c | Resort/Marina Term Special Use Permit | 1 | 50 | 1 | 50
FS-2700-9a | Agricultural Irrigation and Livestock Watering System Easement | 1 | 50 | 1 | 50
FS-2700-9b | Cost Share Easement | 1 | 5 | 1 | 5
FS-2700-9c | Non-Cost Share Easement | 1 | 5 | 1 | 5
FS-2700-9d | Public Road Easement | 1 | 35 | 1 | 35
FS-2700-9e | Forest Road Easement Issued Under the National Forest Road and Trails Act | 1 | 25 | 1 | 25
FS-2700-9f | Private Road Easement Issued Under the National Forest Road and Trails Act | 1 | 10 | 1 | 10
FS-2700-9g | Forest Road Easement Issued Under the Federal Land Policy and Management Act | 1 | 50 | 1 | 50
FS-2700-9h | Private Road Easement Issued Under the Federal Land Policy and Management Act | 1 | 100 | 1 | 100
FS-2700-10b | Communications Site Lease | 1 | 150 | 1 | 150
FS-2700-NEW | Electric Transmission Line Easement | 1 | 30 | 1 | 30
FS-2700-NEW | Permit for Archaeological Investigations | 4 | 50 | 1 | 200
FS-2700-23 | Amendment for Special Use Authorization | 1 | 1,175 | 1 | 1,175
FS-2700-25 | Temporary Special Use Permit | 1 | 1,350 | 1 | 1,350
FS-2700-26 | Major Category Cost Recovery Agreement | 8 | 875 | 1 | 7,000
FS-2700-26b | Cost Recovery Master Agreement | 8 | 225 | 1 | 1,800
FS-2700-27 | Notice to Alaska Native Corporations Regarding Prospectus for Visitor Services | 20 | 10 | 1 | 200
CATEGORY 3: ANNUAL FINANCIAL INFORMATION
FS-2700-6b | Recreation Residence Self-Inspection Report | 2.5 | 14,500 | 1 | 36,250
FS-2700-7 | Reconciliation of Sales for Fee Calculation | 1 | 590 | 1 | 590
FS-2700-8 | Reconciliation of Gross Fixed Assets to Booked Amounts | 1 | 590 | 1 | 590
FS-2700-10a | Telecommunications Facility Inventory | 1 | 1,525 | 1 | 1,525
FS-2700-19 | Fee Calculation for Concession Permits | 1 | 175 | 1 | 175
FS-2700-19a | Fee Calculation for Ski Area Permits | 1 | 125 | 1 | 125
| Business Practices (no standard form) | 1 | 1,675 | 1 | 1,675
CATEGORY 4: PREPARING AND UPDATING OPERATING PLANS
| No standard form | 1 | 22,225 | 1 | 22,225
CATEGORY 5: PREPARING AND UPDATING MAINTENANCE PLANS
| No standard form | 2 | 800 | 1 | 1,600
CATEGORY 6: COMPLIANCE REPORTS AND INFORMATION UPDATES
| No standard form | 2 | 15,000 | 1 | 30,000

Comment is invited on (1) whether this collection of information is necessary for the stated purposes and proper performance of the agency's functions and mission, including whether the information will have practical or programmatic utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Dated: December 21, 2005.
Frederick Norbury,
National Forest System.

[FR Doc. E5-7935 Filed 12-27-05; 8:45 am]

BILLING CODE 3410-11-P